DEPARTMENT OF THE TREASURY

Alcohol and Tobacco Tax and Trade Bureau

Proposed Information Collection; Comment Request

AGENCY: Alcohol and Tobacco Tax and Trade Bureau (TTB), Treasury.

ACTION: Notice and request for comments.

SUMMARY: The Department of the Treasury and its Alcohol and Tobacco Tax and Trade Bureau, as part of their continuing effort to reduce paperwork and respondent burden, invite the public and other Federal agencies to comment on a proposed information collection, as required by the Paperwork Reduction Act of 1995 (44 U.S.C. 3501 et seq.). Currently, we are seeking comments on the form titled “Formula and Process for Alcohol Products.”

DATES: We must receive your written comments on or before October 14, 2005.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please reference the information collection's title, form or recordkeeping requirement number, and OMB number (if any) in your comment. If you submit your comment via facsimile, send no more than five 8.5 × 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION: Title: Formula and Process for Alcohol Beverages.

OMB Number: New collection.

TTB Form Number: 5100.51.

Abstract: TTB F 5100.51 is used to determine the classification of distilled spirits, wine, and malt beverages for labeling and for consumer protection. The form describes the person filing, the type of product to be made, and restrictions to the label and/or manufacturing process. The form will be used by TTB to ensure that a product is made and labeled properly and to audit distilled spirits, wine, and malt beverage operations. Records are kept indefinitely for this information collection. Also, this form makes obsolete TTB F 5120.29 “Formula and Process for Wine” (OMB Number 1513-0010), TTB F 5110.38 “Formula for Distilled Spirits Under the Federal Alcohol Administration Act” (OMB Number 1513-0046) and the Letterhead Statement of Process submitted with Brewer's Notice.

Current Actions: This is a new information collection and it is being submitted to OMB for approval.

Type of Review: Regular.

Affected Public: Business or other for-profit.

Estimated Number of Respondents: 2,000.

Estimated Total Annual Burden Hours: 8,000.

Request for Comments

Comments submitted in response to this notice will be included or summarized in our request for Office of Management and Budget (OMB) approval of this information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Dated: August 9, 2005.
Frank Foote,
Director, Regulations and Rulings Division.

[FR Doc. 05-16131 Filed 8-12-05; 8:45 am]

BILLING CODE 4810-31-P